DEPARTMENT OF ENERGY

Federal Energy Regulatory Commission

[Project No. 2413-040]

Georgia Power Company; Notice of Availability of Draft Environmental Assessment

October 13, 2000.

An environmental assessment (EA) is available for public review. The EA analyzes the environmental impacts of approving Georgia Power Company's (licensee for the Wallace Dam Project, FERC No. 2413) request to permit the Reynolds Plantation to increase the rate of water withdrawal 3 MGD, about 4.6 cubic feet per second (cfs), to 14.125 MGD, about 21.9 cfs. No additional construction is required at either site.

The Reynold plantation would increase the water withdrawal at the Rees Jones intake facility from 0.75 million gallons per day (MGD) from Lake Oconee to 10.75 MGD. The Reynolds Plantation also would increase the rate of water withdrawal at the National Course facility from 0.75 MGD to 1.875 MGD.

The EA was written by staff in the Office of Energy Projects, Federal Energy Regulatory Commission. In the EA, Commission staff conclude that approving the licensee's request to permit the Reynold plantation to increase it's water withdrawals from Lake Oconee would not constitute a major federal action significantly affecting the quality of the human environment. Copies of the EA can be viewed on the web at www.ferc.fed.us/online/rims.htm. Call (202) 208-2222 for assistance. Copies are also available for inspection and reproduction at the Commission's Public Reference Room, located at 888 First Street NE, Room 2A, Washington, DC 20426, or by calling (202) 208-1371.

Anyone may file comments on the EA. The public, federal and state resource agencies are encouraged to provide comments. All written comments must be filed within 30 days of the issuance date of this notice shown above. Send an original and eight copies of all comments marked with the docket number P-2413-040 to: The Secretary, Federal Energy Regulatory Commission, 888 First Street NE, Washington, DC 20426. If you have any questions regarding this notice, please contact Sean Murphy at telephone: (202) 219-2964.

Linwood A. Watson, Jr.,
Acting Secretary.

[FR Doc. 00-26838 Filed 10-18-00; 8:45 am]

BILLING CODE 6717-01-M